Title 3—

The President

Proclamation 10904 of March 18, 2025

National Agriculture Day, 2025

By the President of the United States of America

A Proclamation

From the earliest days of our Republic, our farmers and agricultural communities have been the source of American success—enduring the elements and defying hard conditions to cultivate our land and feed the people. Farming is indelibly engrained in our history, customs, and culture, and stands to this day as the bedrock of our economy and way of life. This National Agriculture Day, we pay tribute to every farmer and rancher who makes our country strong—and we commit to empowering our agricultural community to forge a long, successful, and bountiful American future.

Every day, farmers and agriculture workers ensure that families across America and around the world have stable access to high-quality products—including food for our tables, clothes for our backs, and fuel for our cars. Over 95 percent of all farms in the United States are family-owned and are vital to rural and economic stability, comprising 83 percent of total farm production.

To make good on my promises to fortify the American farmer and make our Nation's agricultural products affordable again, I have worked to rapidly reduce the spread of bird flu inherited from the previous administration—including by strengthening biosecurity measures and ensuring rapid outbreak containment. As President, I will ensure that American agriculture remains the gold standard of the world, producing the best food, feed, fuel, and fiber on the face of the Earth. My Administration will strengthen our farmers' competitiveness on the world stage by promoting fair trade practices, streamlining export processes, and expanding market access.

For centuries, American farmers and ranchers have been the lifeblood of the American economy. Today and every day, we extend our unending gratitude to the dedicated men and women in farming communities who embody the timeless virtues of hard work and self-reliance. As we continue our new chapter of American prosperity, we commit to embolden the heroes of our agricultural community who work tirelessly with their unwavering American pride to nourish our Nation, feed our families, and fuel our way of life.

NOW, THEREFORE, I, DONALD J. TRUMP, President of the United States of America, by virtue of the authority vested in me by the Constitution and the laws of the United States, do hereby proclaim March 18, 2025, as National Agriculture Day. I encourage all Americans to observe this day by recognizing the preeminent role that agriculture plays in our daily lives, acknowledging agriculture's continuing importance to rural America and our country's economy, and expressing our deep appreciation of farmers, growers, ranchers, producers, national forest system stewards, private agricultural stewards, and those who work in the agriculture sector across the Nation.

IN WITNESS WHEREOF, I have hereunto set my hand this eighteenth day of March, in the year of our Lord two thousand twenty-five, and of the Independence of the United States of America the two hundred and forty-ninth.

[FR Doc. 2025-04970

Filed 3-20-25; 8:45 am]

Billing code 3395-F4-P